DEPARTMENT OF EDUCATION

Office of Special Education and Rehabilitative Services; List of Correspondence

AGENCY: Department of Education.

ACTION: List of Correspondence from April 1, 2008 through June 30, 2008.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laurel Nishi or Mary Louise Dirrigl. Telephone: (202) 245-7468.

If you use a telecommunications device for the deaf (TDD), you may call the Federal Relay Service (FRS) at 1-800-877-8339.

Individuals with disabilities may obtain a copy of this notice in an alternative format (e.g., braille, large print, audiotape, or computer diskette) on request to the contact persons listed under FOR FURTHER INFORMATION CONTACT.

SUPPLEMENTARY INFORMATION: The following list identifies correspondence from the Department issued from April 1, 2008 through June 30, 2008. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part A—General Provisions

Section 602—Definitions

Topic Addressed: Special Education

○ Letter dated May 6, 2008 to individual (personally identifiable information redacted), clarifying how the definition of “specially designed instruction” applies to a child's access to the general education curriculum.

Part B—Assistance for Education of All Children With Disabilities

Section 612—State Eligibility

Topic Addressed: Child Find

○ Letter dated April 22, 2008 to Texas Education Agency General Counsel David Anderson, reiterating that a State has no obligation under the IDEA to conduct child find or provide educational services to children residing in U.S. Immigration and Customs Enforcement residential family facilities, but encouraging a State or local school district to enter into a voluntary agreement for these purposes.

Topic Addressed: Confidentiality of Information

○ Letter dated April 17, 2008 to Mountain Plains Regional Resource Center Director John Copenhaver, concerning the use of parents and other volunteers in State educational agency monitoring of local educational agencies.

Topic Addressed: Obligations Related to and Methods of Ensuring Services

○ Letter dated May 7, 2008 to Kinney Management Services, LLC representative Joseph Kinney, concerning access to public insurance benefits and applicable parental consent requirements.

Topic Addressed: Personnel Qualifications

○ Letter dated May 28, 2008 to American Speech-Language-Hearing Association Director of Education and Regulatory Advocacy Catherine D. Clarke, concerning the use of speech-language pathologists in a response to intervention model, and reiterating that State law governs the use of paraprofessionals and assistants in the provision of special education and related services and the scope of their responsibilities.

Section 613—Local Educational Agency Eligibility

Topic Addressed: Use of Federal Funds

○ Letter dated April 8, 2008 to Washington, DC Attorney Christine Plagata-Neubauer, concerning certain fiscal requirements in Part B of the IDEA, including excess costs, maintenance of effort, and use of funds.

Section 614—Evaluations, Eligibility Determinations, Individualized Education Programs, and Educational Placements

Topic Addressed: Evaluations, Parental Consent, and Reevaluations

○ Letter dated April 8, 2008 to Lehigh University Professor Perry A. Zirkel, concerning the additional procedures for identifying children with specific learning disabilities.

○ Letter dated May 6, 2008 to New York Attorney Edward J. Sarzynski, clarifying that public agencies must obtain parental consent before conducting evaluations to determine whether services should be increased or decreased and to determine a child's continued eligibility for services or changes to services.

○ Letter dated June 3, 2008 to individual (personally identifiable information redacted), concerning the relationship of the child's evaluation to the IEP Team's determination of the special education and related services to be provided to the child.

Topic Addressed: Individualized Education Programs

○ Letter dated June 3, 2008 to Indiana Attorney Joseph Daniel Thomas, clarifying the requirements for ensuring parent participation at IEP Team meetings when parents or their experts are unable to attend IEP Team meetings scheduled during regular school or business hours.

Section 615—Procedural Safeguards

Topic Addressed: Student Discipline

○ Letter dated May 1, 2008 to West Virginia Attorney James Gerl, clarifying that the time period for an expedited due process hearing commences on the date that the due process complaint requesting the hearing is filed and includes the resolution period.

○ Letter dated June 5, 2008 to Austin Independent School District General Counsel Ylise Janssen, concerning requirements for functional behavioral assessments (FBAs), State personnel qualifications for individuals who conduct FBAs, and use of funds from Part B of the IDEA to assist LEAs in providing FBAs.

Section 618—Program Information

Topic Addressed: Disproportionality

○ Letter dated June 3, 2008 to Michigan Office of Special Education and Early Intervention Services Supervisor of Program Improvement Frances F. Loose, reiterating the Department's position that the requirements in Part B of the IDEA governing significant disproportionality based on race and ethnicity apply to disciplinary actions.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: November 7, 2008.
Tracy R. Justesen,
Assistant Secretary for Special Education and Rehabilitative Services.

[FR Doc. E8-26986 Filed 11-12-08; 8:45 am]

BILLING CODE 4000-01-P